DEPARTMENT OF ENERGY

Federal Energy Regulatory Commission

Combined Notice of Filings

Take notice that the Commission has received the following Natural Gas Pipeline Rate and Refund Report filings:

Filings Instituting Proceedings

Docket Number: PR18-38-000.

Applicants: Energy Transfer Fuel, LP.

Description: Tariff filing per 284.123(b),(e)/: Rate Election of Energy Transfer Fuel, LP Effective March 16, 2018.

Filed Date: 3/16/18.

Accession Number: 201803165131.

Comments/Protests Due: 5 p.m. ET 4/6/18.

Docket Numbers: RP13-459-000.

Applicants: Trailblazer Pipeline Company LLC.

Description: Report Filing: 2017 Penalty Revenue Credit Report.

Filed Date: 3/19/18.

Accession Number: 20180319-5130.

Comments Due: 5 p.m. ET 4/2/18.

Docket Numbers: RP18-570-000.

Applicants: Northern Natural Gas Company.

Description: Petition of Northern Natural Gas Company for Limited Waiver of Tariff Provisions.

Filed Date: 3/19/18.

Accession Number: 20180319-5201.

Comments Due: 5 p.m. ET 4/2/18.

Docket Numbers: RP18-571-000.

Applicants: Gulf South Pipeline Company, LP.

Description: § 4(d) Rate Filing: Amendment to Neg Rate Agmt (Colorado Bend 46260-4) to be effective 3/21/2018.

Filed Date: 3/20/18.

Accession Number: 20180320-5084.

Comments Due: 5 p.m. ET 4/2/18.

Docket Numbers: RP18-572-000.

Applicants: Trailblazer Pipeline Company LLC.

Description: § 4(d) Rate Filing: Neg Rate 2018-03-15 MS, Macquaire, Citadel, CIMA to be effective 4/1/2018.

Filed Date: 3/20/18.

Accession Number: 20180320-5183.

Comments Due: 5 p.m. ET 4/2/18.

Docket Numbers: RP18-573-000.

Applicants: LLOG Bluewater Holdings, LLC, Beacon Offshore Energy Operating, LLC, LLOG Exploration & Production Company, LLC.

Description: Joint Petition of LLOG Bluewater Holdings, LLC, et al. for Limited Waiver, et al.

Filed Date: 3/20/18.

Accession Number: 20180320-5197.

Comments Due: 5 p.m. ET 4/2/18.

Docket Numbers: RP18-574-000.

Applicants: Elba Express Company, L.L.C.

Description: Compliance filing Annual Interruptible Revenue Crediting Report 2018.

Filed Date: 3/22/18.

Accession Number: 20180323-5001.

Comments Due: 5 p.m. ET 4/3/18.

Docket Numbers: RP18-575-000.

Applicants: Transcontinental Gas Pipe Line Company.

Description: § 4(d) Rate Filing: Rate Schedule LSS and SS-2 Tracker-Eff. 04/01/2018 to be effective 4/1/2018.

Filed Date: 3/22/18.

Accession Number: 20180323-5008.

Comments Due: 5 p.m. ET 4/3/18.

Docket Numbers: RP18-576-000.

Applicants: Tennessee Gas Pipeline Company, L.L.C.

Description: § 4(d) Rate Filing: Volume No. 2—Neg Rate Agmt—Sequent Enegy Management SP100239 to be effective 4/1/2018.

Filed Date: 3/22/18.

Accession Number: 20180323-5009.

Comments Due: 5 p.m. ET 4/3/18.

Docket Numbers: RP18-577-000.

Applicants: Gulf South Pipeline Company, LP.

Description: § 4(d) Rate Filing: Amendment to Neg Rate Agmt (Jera 46437-1) to be effective 3/22/2018.

Filed Date: 3/22/18.

Accession Number: 20180322-5001.

Comments Due: 5 p.m. ET 4/3/18.

Docket Numbers: RP18-578-000.

Applicants: Panhandle Eastern Pipe Line Company, LP.

Description: Compliance filing Flow Through of Cash Out Revenues filed on 3-21-18.

Filed Date: 3/22/18.

Accession Number: 20180322-5002.

Comments Due: 5 p.m. ET 4/3/18.

Docket Numbers: RP18-579-000.

Applicants: Enable Gas Transmission, LLC.

Description: § 4(d) Rate Filing: Fuel Tracker Filing Effective May 1, 2018 to be effective 5/1/2018.

Filed Date: 3/22/18.

Accession Number: 20180322-5143.

Comments Due: 5 p.m. ET 4/3/18.

Docket Numbers: RP18-580-000.

Applicants: Trailblazer Pipeline Company LLC.

Description: § 4(d) Rate Filing: Fuel Tracker 2018 to be effective 5/1/2018.

Filed Date: 3/22/18.

Accession Number: 20180322-5229.

Comments Due: 5 p.m. ET 4/3/18.

Docket Numbers: RP18-581-000.

Applicants: Vector Pipeline L.P.

Description: Annual Fuel Use Report for 2017 of Vector Pipeline L.P.

Filed Date: 3/22/18.

Accession Number: 20180322-5292.

Comments Due: 5 p.m. ET 4/3/18.

Docket Numbers: RP18-582-000.

Applicants: Millennium Pipeline Company, LLC.

Description: § 4(d) Rate Filing: Negotiated Rate Amendments—BKV to be effective 11/22/2017.

Filed Date: 3/23/18.

Accession Number: 20180323-5108.

Comments Due: 5 p.m. ET 4/4/18.

Docket Numbers: RP18-583-000.

Applicants: High Island Offshore System, L.L.C.

Description: § 4(d) Rate Filing: NGL Bank Revision to be effective 12/1/2017.

Filed Date: 3/23/18.

Accession Number: 20180323-5136.

Comments Due: 5 p.m. ET 4/4/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2018.
Kimberly D. Bose,
Secretary.

[FR Doc. 2018-06576 Filed 3-30-18; 8:45 am]

BILLING CODE 6717-01-P